OFFICE OF PERSONNEL MANAGEMENT

5 CFR Parts 315 and 316

RIN 3206-AL29

Disabled Veterans Documentation

AGENCY: Office of Personnel Management

ACTION: Proposed rule.

SUMMARY: The Office of Personnel Management (OPM) proposes to revise its regulation regarding documentation required for noncompetitive temporary and term appointments, and conversion of 30 percent or more disabled veterans from nonpermanent appointments. The intended purpose of this change is to provide consistency with the policy of the Department of Veterans Affairs (VA).

DATES: We will consider comments received on or before October 19, 2007.

ADDRESSES: You may submit comments through the Federal eRulemaking Portal at: http://www.regulations.gov. All submissions received through the Portal must include the agency name and docket number or Regulation Identifier Number (RIN) for this rulemaking.

You may also send or deliver written comments to Deputy Associate Director for Talent and Capacity Policy, U.S. Office of Personnel Management, Room 6551, 1900 E Street, NW., Washington, DC 20415-9700; (202) 606-2329.

FOR FURTHER INFORMATION CONTACT: Darlene Phelps by telephone at (202) 606-0830; by TTY at (202) 606-3134; by fax at (202) 606-0390; or by e-mail at Darlene.Phelps@opm.gov.

SUPPLEMENTARY INFORMATION: The Department of Veterans Affairs (VA) considers any VA disability letter issued in 1991 or later as proof of a permanent disability, unless the letter specifically states otherwise. We are modifying sections 316.302(b)(4) and 316.402(b)(4), and 315.707(a)(2)(ii) and (iii) to be consistent with VA's policy. These modifications will clarify that a 30 percent or more disabled veteran, who has proof of disability from the VA dated 1991 or later is eligible for a noncompetitive temporary or term appointment. The employee may be noncompetitively converted to the competitive service at any time during such an appointment. In addition, we are adding a reference to section 315.707(a)(2)(ii) and (iii) to include disability determinations from a branch of the Armed Forces, as these entities may also certify the existence of 30 percent or more disability.

E.O. 12866, Regulatory Review

This rule has been reviewed by the Office of Management and Budget in accordance with Executive Order 12866.

Regulatory Flexibility Act

I certify that this regulation will not have a significant economic impact on a substantial number of small entities because it would apply only to Federal agencies and employees.

Paperwork Reduction Act

The information collection requirements contained in this proposed rule are currently approved by OMB under 3206-0001. This proposed regulation does not seek to modify this approved collection.

List of Subjects in 5 CFR Parts 315 and 316

Government employees.

U.S. Office of Personnel Management.
Linda M. Springer,
Director.

Accordingly, OPM proposes to amend 5 CFR parts 315 and 316 as follows:

PART 315—CAREER AND CAREER CONDITIONAL EMPLOYMENT

1. The authority citation for part 315 continues to read as follows:

Authority: 5 U.S.C. 1302, 3301, and 3302; E.O. 10577, 3 CFR, 1954-1958 Comp., p. 218, unless otherwise noted; and E.O. 13162; sections 315.601 and 315.609 also issued under 5 U.S.C. 8151. Section 315.605 also issued under E.O. 12034, 3 CFR, 1978 Comp., p. 111. Section 315.606 also issued under E.O. 11219, 3 CFR, 1964-1965 Comp., p. 303. Sec 315.607 also issued under 22 U.S.C. 2506. Section 315.608 also issued under E.O. 12721, 3 CFR, 1990 Comp., p. 293. Section 315.610 also issued under 5 U.S.C. 3304(d). Section 315.611 also issued under Section 511, Pub. L. 106-117, 113 Stat. 1575-76 Section 315.708 also issued under E.O. 13318. Section 315.710 also issued under E.O. 12596, 3 CFR, 1987 Comp., p. 229. Subpart I also issued under 5 U.S.C. 3321, E.O. 12107, 3 CFR, 1978 Comp., p. 264.

Subpart G—Conversion to Career or Career-Conditional Employment From Other Types of Employment

2. In § 315.707 revise paragraphs (a)(2)(ii) and (iii) to read as follows:

§ 315.707 Disabled veterans.

(a) * * *

(2) * * *

(ii) Have been rated by the Department of Veterans Affairs since 1991 or later, or by a branch of the Armed Forces at any time, as having a compensable service-connected disability of 30 percent or more; or

(iii) Have been rated by the Department of Veterans Affairs at the time of a qualifying temporary appointment effected within the year immediately preceding, or a term appointment effected within four years immediately preceding the conversion.

* * * * *

PART 316—TEMPORARY AND TERM EMPLOYMENT

3. The authority citation for part 316 continues to read as follows:

Authority: 5 U.S.C. 3301, 3302; E.O. 10577, 3 CFR, 1954-1958 Comp., p. 218.

Subpart C—Term Employment

4. In § 316.302 revise paragraph (b)(4) to read as follows:

§ 316.302 Selection of term employees.

(b) * * *

(4) Appointment under 5 U.S.C. 3112 (veterans with compensable service-connected disability of 30 percent or more). The disability must be documented by a notice of retirement of discharge due to service-connected disability from active military service dated at any time, or by a notice of compensable disability rating from the Department of Veterans Affairs, dated 1991 or later;

* * * * *

Subpart D—Temporary Limited Employment

5. In § 316.402 revise paragraph (b)(4) to read as follows:

§ 316.402 Procedures for making temporary appointments.

(b) * * *

(4) Appointment under 5 U.S.C. 3112 (veterans with compensable service-connected disability of 30 percent or more). The disability must be documented by a notice of retirement of discharge due to service-connected disability from active military service dated at any time, or by a notice of compensable disability rating from the Department of Veterans Affairs, dated 1991 or later;

* * * * *

[FR Doc. E7-16285 Filed 8-17-07; 8:45 am]

BILLING CODE 6325-39-P